DEPARTMENT OF TRANSPORTATION

National Highway Traffic Safety Administration

49 CFR Part 571 and Part 572

[Docket No. NHTSA-2025-0046]

RIN 2127-AM62

Federal Motor Vehicle Safety Standard No. 213a; Child Restraint Systems—Side Impact Protection; Federal Motor Vehicle Safety Standard No. 213; Child Restraint Systems, Federal Motor Vehicle Safety Standard No. 213b; Child Restraint Systems

AGENCY: National Highway Traffic Safety Administration (NHTSA), Department of Transportation (DOT).

ACTION: Notice of proposed rulemaking; Grant of petitions for rulemaking and other proposals.

SUMMARY: This document proposes amendments to the safety standards for child restraint systems (CRSs). NHTSA is proposing to amend FMVSS No. 213a, “Child restraint systems—side impact protection,” to exempt school bus CRSs from the standard's requirements as long as they meet specified labeling requirements; to delay the compliance date from June 30, 2025 to December 5, 2026; to provide that the Child Restraint Air Bag Interaction twelve-month-old (CRABI-12MO) test dummy will not be used to test forward-facing CRSs; and to amend the positioning procedures for that dummy. The first two of these amendments are in response to petitions from CRS manufacturers. NHTSA is also proposing to amend FMVSS No. 213, “Child restraint systems” and FMVSS No. 213b, “Child restraint systems; Mandatory applicability beginning December 5, 2026,” to exclude school bus CRSs from the requirements to provide attachments for connection to the vehicle's child restraint anchorage system and to change certain labeling requirements to reflect how school bus child restraints are used.

DATES: Comments must be submitted no later than June 30, 2025.

Proposed Effective date: The effective date would be the date of publication of the final rule in the Federal Register.

ADDRESSES: You may submit comments to the docket number identified in the heading of this document by any of the following methods:

• Federal eRulemaking Portal: Go to http://www.regulations.gov. Follow the online instructions for submitting comments.

• Mail: Docket Management Facility, M-30, U.S. Department of Transportation, West Building, Ground Floor, Rm. W12-140, 1200 New Jersey Avenue SE, Washington, DC 20590.

• Hand Delivery or Courier: West Building, Ground Floor, Room W12-140, 1200 New Jersey Avenue SE, between 9 a.m. and 5 p.m. Eastern Time, Monday through Friday, except Federal holidays. To be sure someone is there to help you, please call (202) 366-9332 before coming.

• Fax: 202-493-2251.

Regardless of how you submit your comments, please mention the docket number of this document.

Instructions: For detailed instructions on submitting comments and additional information on the rulemaking process, see the Public Participation heading of the Supplementary Information section of this document. Note that all comments received will be posted without change to http://www.regulations.gov, including any personal information provided.

Confidential Business Information: If you claim that any of the information in your comment (including any additional documents or attachments) constitutes confidential business information within the meaning of 5 U.S.C. 552(b)(4) or is protected from disclosure pursuant to 18 U.S.C. 1905, please see the detailed instructions given under the Public Participation heading of the SUPPLEMENTARY INFORMATION section of this document.

Docket: For access to the docket to read background documents or comments received, go to www.regulations.gov, or the street address listed above. Follow the online instructions for accessing the dockets.

Privacy Act: Please see the Privacy Act heading under the Regulatory Analyses section of this document.

FOR FURTHER INFORMATION CONTACT: For technical issues, you may contact Cristina Echemendia, Office of Crashworthiness Standards (email: Cristina.Echemendia@dot.gov). For legal issues, you may contact John Piazza, Office of Chief Counsel (email: John.Piazza@dot.gov). You can reach these officials by phone at 202-366-1810. Address: National Highway Traffic Safety Administration, U.S. Department of Transportation, 1200 New Jersey Avenue SE, West Building, Washington, DC 20590.

SUPPLEMENTARY INFORMATION:

I. Executive Summary

II. Background

III. Proposed Amendments to Side Impact Requirements (FMVSS No. 213a)

A. Exempt School Bus CRSs From the Side Impact Requirements

B. Exclude the CRABI-12MO Test Dummy From Testing Forward-Facing CRSs and Make Corresponding Amendments to the Dummy Positioning Procedures

C. Delay the Compliance Date From June 30, 2025 to December 5, 2026

IV. Proposed Amendments to Front Impact Requirements (FMVSS Nos. 213 and 213b)

V. Costs and Benefits

VI. Proposed Effective Date

VII. Regulatory Notices and Analyses

VIII. Public Participation

Proposed Regulatory Text

I. Executive Summary

This document proposes amendments to three different safety standards: FMVSS No. 213, “Child restraint systems; Applicable unless a vehicle or child restraint system is certified to § 571.213b”; FMVSS No. 213b, “Child restraint systems; Mandatory applicability beginning December 5, 2026”; and FMVSS No. 213a, “Child restraint systems—side impact protection.” FMVSS Nos. 213, 213a, and 213b set out most of the agency's safety requirements for child restraint systems (CRS).

This document proposes four amendments to the side impact standard (FMVSS No. 213a):

• Exempt school bus CRSs from the side impact requirements in FMVSS No. 213a. The December 5, 2023 final rule updating FMVSS No. 213 and establishing FMVSS No. 213b for frontal impact requirements, amended the standards to permit more types of add-on CRSs specially designed for exclusive use on school buses, that were not permitted at the time, with the intent to facilitate the availability of these CRSs that are only used on school buses. Because these CRSs are designed to install on school bus seats with seat back mounts, their construction does not provide rigid side structures (similar to harnesses) and because the side impact environment in school buses is different from the side impact environment simulated by the FMVSS No. 213a standard, the agency is proposing to exempt school bus CRSs from FMVSS No. 213a. This proposal is NHTSA's action on a grant of petitions for rulemaking from IMMI and BESI, Inc.

• Delay the compliance date of FMVSS No. 213a from June 30, 2025 to December 5, 2026. The agency received a petition for rulemaking from a group of CRS manufacturers which requested a delay on the FMVSS No. 213a compliance date to “prevent market disruption resulting in reduced availability of CRSs” and due to “limited availability of compliance lab sled time” that is needed for the development and certification of their products. This proposal is NHTSA's action on a grant of petitions for rulemaking from a group of CRS manufacturers.

• Provide that the CRABI-12MO test dummy will not be used to test forward-facing CRSs for side impact requirements in FMVSS No. 213a. The frontal update standard (FMVSS No. 213b) requires that forward-facing CRSs must have a minimum recommended child weight of 12 kg (26.5 lbs.). Since the CRABI-12MO dummy only weighs 10 kg (22 lb.), the standard excluded testing forward-facing CRSs with the CRABI-12MO dummy because the dummy would be too small for the CRS design. To maintain consistency between standards, the agency proposes to exclude testing forward-facing CRSs from side impact requirements in FMVSS No. 213a.

• Amend the positioning procedures for the CRABI-12MO dummy to reflect that the dummy would no longer be tested with forward-facing CRSs.

NHTSA is also proposing to amend FMVSS No. 213, “Child restraint systems” and FMVSS No. 213b, “Child restraint systems; Mandatory applicability beginning December 5, 2026,” to exclude school bus CRSs from the requirements to provide attachments for connection to the vehicle's child restraint anchorage system. Generally, school bus CRSs have a seat back mounting installation method that is necessary for school bus seats. It was not the intent of the agency to apply the requirement for child restraint anchorage system attachments to the school bus CRSs when the agency finalized the frontal impact update final rule. Therefore, NHTSA proposes to add school bus CRSs to the exclusion list in both FMVSS No. 213 S5.9(a) and FMVSS No. 213b S5.9(a). The agency also proposes to amend S5.5.2(g)(1)(ii) in FMVSS Nos. 213 and 213b which require a labeling statement regarding how to secure the CRS to the vehicle to be consistent with the seat back mount required in school bus CRSs.

II. Background

This document proposes amendments to three different safety standards: FMVSS No. 213, “Child restraint systems; Applicable unless a vehicle or child restraint system is certified to § 571.213b”; FMVSS No. 213b, “Child restraint systems; Mandatory applicability beginning December 5, 2026”; and FMVSS No. 213a, “Child restraint systems—side impact protection.” FMVSS Nos. 213, 213a, and 213b set out most of the agency's safety requirements for child restraint systems (CRS). Each of these three standards has either been established or updated in final rules over the past 3 years. Below we provide some brief background information on the recent regulatory history for these standards to provide context for the proposed amendments.

FMVSS Nos. 213 and 213b—The Frontal Impact Standards

FMVSS No. 213 is the original CRS standard, which was established in the 1970s.¹ FMVSS No. 213 sets out a number of requirements for CRSs, but perhaps the most significant portion of FMVSS No. 213 is its requirements for frontal impact protection. The standard sets out a test procedure that involves a sled bench and a crash pulse that simulates a frontal collision. CRSs must meet certain minimum requirements during these crash tests (e.g., maximum head and knee excursions of a restrained child-size test dummy, head and chest injury criteria).

¹ The standard has been updated throughout the years by, among other things, incorporating new child dummies, updating the standard's test seat assembly, and requiring CRSs to provide means to attach the CRS to the vehicle child restraint anchorage system.

In 2020 NHTSA published an NPRM that proposed sweeping updates to the frontal impact standard,² and in 2023 NHTSA published a final rule.³ In implementing these changes, NHTSA created a new standard, FMVSS No. 213b. FMVSS No. 213 applies to CRSs manufactured before December 5, 2026, and FMVSS No. 213b applies to child restraint systems manufactured on or after December 5, 2026. FMVSS No. 213 therefore sunsets on December 5, 2026.

² 85 FR 69388 (Nov. 2, 2020).

³ 88 FR 84514 (Dec. 5, 2023).

NHTSA received two petitions for reconsideration to the 2023 frontal impact final rule (from Juvenile Products Manufacturers Association (JPMA) and Evenflo). Both petitions were timely filed within 45 days after each respective rule was published. The petitions concerned a variety of issues. For example, JPMA requested removing testing CRSs installed with lap belt only in frontal sled test, and guidance on the new registration information for consumers, while Evenflo requested the deletion of duplicative language.

NHTSA responded to these petitions in a final rule published on October 9, 2024.⁴ (This final rule also responded to petitions for reconsideration received on the side impact final rule, which is discussed in the immediately following section.)

⁴ 89 FR 81836 (Oct. 9, 2024) (final rule and response to petitions for reconsideration for FMVSS Nos. 213, 213a, and 213b).

FMVSS No. 213a—The Side Impact Standard

The Moving Ahead for Progress in the 21st Century Act (“MAP-21”), enacted in 2012, directed NHTSA to initiate a rulemaking to improve safety for children involved in side impact crashes.⁵ In response to this mandate, in 2014 NHTSA published an NPRM proposing side impact protection requirements for CRSs under a new standard, FMVSS No. 213a.⁶ NHTSA finalized the rule in 2022.⁷ The final rule established, among other things, performance requirements that must be met in a test simulating the acceleration pulse and door intrusion that occurs in a real-world side impact. The compliance date of the final rule is June 30, 2025.

⁵ Public Law 112-141, Sec. 31501(a).

⁶ 79 FR 4570 (Jan. 28, 2014).

⁷ 87 FR 39234 (June 30, 2022).

NHTSA received two petitions for reconsideration to the 2022 side impact final rule (from Columbus Trading Partners USA, Inc (Cybex products distributor) and Evenflo). Both petitions were timely filed within 45 days after the final rule was published and concerned a variety of issues. For example, Cybex requested NHTSA clarify how fixed, adjustable, and configurable side impact technologies will be tested in future annual compliance test programs. NHTSA responded to these petitions in the same notice published on October 9, 2024 that responded to the petitions for reconsideration of the 2023 frontal impact final rule.⁸

⁸ See supra note 4.

Petitions for Reconsideration and Rulemaking Subsequent to the October 2024 Final Rule

After publishing the October 2024 final rule responding to the petitions for reconsideration of the frontal impact and side impact rulemakings, NHTSA received three additional petitions for reconsideration, as well as a related petition for rulemaking. The petitions for reconsideration were from IMMI (dated November 18, 2024); BESI, Inc. (dated November 22, 2024); and a group of CRS manufacturers ⁹ (dated November 24, 2024). IMMI and BESI requested that NHTSA exempt school bus CRSs that do not meet the regulatory definition of “harness” in FMVSS Nos. 213a from the side impact requirements. IMMI also submitted a petition for rulemaking on January 8, 2025 that highlighted the same issues raised in its petition for reconsideration. The petition for reconsideration from the group of CRS manufacturers requested a delay of the June 30, 2025, compliance date of the side impact standard to prevent “significant market disruption resulting from a reduced availability of child restraint systems and higher costs than necessary for those that are available.”

⁹ BabyTrend, Babyark, DECA Consulting, Diono, Doona, KidsEmbrace, Peg Parego, and Safe Traffic System.

Because the petitions do not request reconsideration of any amendments made in the October 2024 final rule,¹⁰ and in accordance with NHTSA's regulations, the agency has decided to treat the three petitions for reconsideration as petitions for rulemaking. The agency has informed all petitioners of this decision. NHTSA has decided to grant all three of these petitions for rulemaking and is publishing this document in furtherance of that grant.

¹⁰ The petition from the group of CRS manufacturers to delay the compliance date for the side impact requirements is outside the scope of the October 2024 final rule because that final rule only discussed compliance dates in the context of amending compliance dates for the frontal impact update, not the side impact final standard.

III. Proposed Amendments to Side Impact Requirements (FMVSS No. 213a)

A. Exempt School Bus CRSs From the Side Impact Requirements

The frontal and side impact standards recognize different categories of CRSs, each of which must meet different requirements using different required methods of installation. For instance, the most common category of CRS is an add-on child restraint system, which is defined as any portable child restraint system. These are the types of restraints that come to mind when someone colloquially refers to a CRS as a “car seat.” Another category of CRS with specific requirements is a harness, which the standards define as a CRS that “consists primarily of flexible material, such as straps, webbing or similar material, and does not include a rigid seating structure for the child.” Harnesses designed for use in vehicles are generally required to provide a means of installation with a vehicle lap belt.¹¹ Since 2004, however, FMVSS No. 213 had specifically exempted harnesses manufactured for exclusive use on school buses from this requirement as long as the harness includes a warning label.¹² School bus harnesses attach to school bus seats backs without needing a seat belt assembly to secure this harness type to the seat. Thus, this type of harness can be used on large school buses that are not equipped with seat belts, which is the majority of school buses. School bus harnesses were exempted from the seat belt installation requirement because many school districts and school bus operators need a product with a seat back mount to transport preschoolers, children who need help sitting upright, and children who need to be physically restrained because of physical or behavioral needs.¹³ Harnesses manufactured for use on school buses that are properly labeled are also exempt from some of the standard's other requirements (e.g., means of installation to lower anchors). Harnesses manufactured for use on school buses were otherwise subject to the standard, importantly including the sled test requirements.

¹¹ They may be tested with a tether if provided with the CRS.

¹² 69 FR 10928 (Mar. 9, 2004 (final rule). The warning label is required to inform users that the harness may be used only on school bus seats, and that the entire seat directly behind the child wearing the seat-mounted harness must be either unoccupied or occupied by restrained passengers.

¹³ 69 FR 10928, March 9, 2004.

Around the time of the 2004 final rule, restraint manufacturers began introducing a new type of child restraint for exclusive use in a school bus—one that utilized a harness consisting primarily of flexible material for the upper torso, together with a rigid base.¹⁴ Because such a device did not primarily consist of flexible material, it was not categorized as a “harness” under the FMVSS No. 213 (the only CRS standard at the time), and therefore did not qualify for the exemptions that were available for school bus harnesses.¹⁵

¹⁴ IMMI comments to 2014 side impact NPRM. Docket No. NHTSA-2014-0012-0023: “The STAR utilizes a harness type restraint consisting primarily of flexible material for the upper torso of the child that is integrated into a rigid lower base booster structure.”

¹⁵ NHTSA letter to IMMI, September 21, 2016: https://www.nhtsa.gov/interpretations/14-001678-immi-star-crs.

In its comments to the 2014 side impact NPRM, IMMI raised this issue with respect to both FMVSS No. 213 and the proposed FMVSS No. 213a.¹⁶ The side impact NPRM proposed to entirely exempt harnesses and car beds from the standard. NHTSA did not apply the side impact standard to harnesses and car beds, which are not designed to protect children during a side impact collision, because “of practicability concerns about the ability of the harness to meet the proposed requirements and because harnesses serve a need in certain populations.” ¹⁷ In its comment, IMMI described one of its child restraints for exclusive use in a school bus as a hybrid design of harness and child seat. It noted that while the side impact NPRM excluded harnesses and car beds from its requirements, it did not clearly encompass CRSs for exclusive use in a school bus with rigid elements, such as IMMI's CRS. This inconsistency was consequential because this type of hybrid school bus CRS is not designed to protect children in a side impact collision, and so would not comply with the standard. IMMI suggested a few different options for providing this flexibility to CRS for exclusive use in school bus manufacturers, including by clarifying the regulatory text in the CRS standards. However, the 2022 side impact final rule did not account for this and therefore did not exempt school bus child restraints that are not harnesses ¹⁸ from the standard.

¹⁶ IMMI comments to 2014 side impact NPRM: Docket No. NHTSA-2014-0012-0023: “The incorporation of a hybrid harness restraint consisting primarily of flexible material for the upper torso of the child that is attached to that rigid lower base booster structure offers the users with a unique means of attachment and portability.”

¹⁷ 79 FR 4570, 4576 (Jan. 28, 2014) (side impact NPRM). See S3 (“This standard applies to add-on child restraint systems . . . except for car beds and harnesses.”)

¹⁸ The school bus CRS category had not yet been introduced into FMVSS No. 213.

On the other hand, the 2023 frontal upgrade final rule did amend the frontal impact requirements to extend the exemption for school bus child restraints harnesses to this type of hybrid school bus restraint IMMI referred to. In response to the NPRM, IMMI and other commenters supported this approach. Accordingly, the 2023 frontal impact final rule included, among other things, a definition of “school bus child restraint system” that was design-neutral and specific to school bus seat usage. It defined school bus child restraint system as a child restraint system (including, but not limited to, harnesses) sold for exclusive use on school bus seats with a label conforming with S5.3.1(b) of FMVSS Nos. 213 or 213b. School bus child restraints that are not harnesses were consequently now required to provide means of installation with a seat back and/or seat back mount and not required to provide means of installation with a vehicle seat belt and/or to the lower anchorages or the child restraint anchorage system, as long as it is appropriately labeled. However, while NHTSA amended the frontal impact standards to account for this type of partially rigid school bus child restraint, it did not similarly amend the side impact requirements. The result is that while school bus CRSs are exempted from some of the requirements in the frontal impact standards so that they are able to comply with it, they are not exempted at all from the side impact standard, which they are not able to comply with because they are not designed to provide protection in a side impact.

IMMI and BESI requested that NHTSA exempt school bus CRSs that do not meet the regulatory definition of “harness” in FMVSS Nos. 213a from the side impact requirements. IMMI noted that it had commented on this issue in response to the 2014 side impact NPRM, but that the final rule had not addressed this issue. It also noted meetings that it had had with NHTSA about this issue. It stated that after the 2022 side impact final rule was published, IMMI had met with NHTSA and NHTSA informed it that the matter of school bus child restraints would be handled in a future rulemaking. IMMI commented that, nevertheless, the October 2024 final rule also did not address this issue. IMMI also described its school bus CRS product, the Student Transportation Add-on Restraint (STAR), which consists of a harness attached to a rigid seat base that provides fixed anchorage points for the harness's lap belt and crotch strap. It explained that because the purpose of the STAR is to safely secure the child to the school bus seat, there is no shell component in this restraint to provide protection for side impact collisions. IMMI stated that “due to the nature of its design, [STAR] is not capable of meeting the newly established side impact requirements of FMVSS 213a.” It also explained what it viewed as the advantages of the product, and noted that NHTSA has included this type of CRS in its training materials. IMMI and BESI stated that unless school bus CRSs are excluded from side impact requirements, they will have to stop production of these CRSs (for the U.S. market) and that this would affect Head Start programs which require the use of child restraint systems in school bus transportation of their students. IMMI and BESI therefore requested that NHTSA amend FMVSS No. 213a so that this type of restraint would not be subject to the side impact protection standard.

NHTSA has tentatively concluded that the requests from IMMI and BESI have merit. While the side impact standard explicitly exempts harnesses and car beds, which do not need to be certified to the standard, this exemption does not include school bus child restraints that are not harnesses. Accordingly, under the current CRS regulatory framework, there is a path for school bus CRSs—whether they qualify as harnesses or not—to be compliant under the frontal impact standards, but there is not a path for those school bus CRSs that are not harnesses to be compliant under FMVSS No. 213a. Similar to harnesses, NHTSA believes school bus CRSs should be excluded because of practicability concerns about the ability of the school bus CRS to meet the proposed requirements and because school bus CRSs serve a niche market where the needs cannot be met by any other type of CRS. NHTSA also recognizes that the side impact crash environment of a school bus is significantly different from the simulated side impact test in FMVSS No. 213a. Accordingly, the agency would like to correct this inconsistency in the CRS standards, and is therefore proposing to explicitly exempt all school bus CRSs from applicability under the side impact standard. NHTSA seeks comment on this proposal.

B. Exclude the CRABI-12MO Test Dummy From Testing Forward-Facing CRSs and Make Corresponding Amendments to the Dummy Positioning Procedures

Child restraint systems must meet the performance requirements in FMVSS Nos. 213, 213a, and 213b when dynamically tested with anthropomorphic test devices (test dummies). Each child restraint system must meet the requirements when oriented in each direction the CRS is designed to be used in (i.e., forward, rearward).

The 2022 side impact final rule expanded the performance requirements for child restraint systems (CRSs) by adopting a side impact test that requires that CRSs meet specified performance requirements when tested with two different dummies: the well-established 12-month-old child test dummy (CRABI-12MO) ¹⁹ dummy and a newer side impact test dummy representing a 3-year-old child (the Q3s).²⁰ NHTSA explained, in the final rule, that it was choosing to limit testing for the side impact requirements to these two dummies, as opposed to a broader range of dummies representing children of a wider range of ages. One reason NHTSA cited was there is no side impact dummy representative of children larger than those represented by the Q3s that can reasonably be used to test CRSs for children above 18 kg (40 lb) to the dynamic side impact requirements.²¹

¹⁹ 49 CFR part 572, subpart R—CRABI 12-Month-Old Infant, Alpha Version.

²⁰ 49 CFR part 572, subpart W—Q3s Three-Year-Old Child Test Dummy.

²¹ See 79 FR 4570, 4573 (Jan. 28, 2014) (side impact NPRM).

The CRABI-12MO represents a twelve-month-old child and weighs 10 kg (22 lb). FMVSS No. 213a uses the CRABI-12MO to measure the containment capability of the CRS (the ability to prevent the dummy's head from making contact with the intruding door of the sled assembly). The standard specifies the CRABI-12MO for testing CRSs that are recommended by their manufacturer for use by children in a specified mass range that includes any children having a mass greater than 5 kg (11 lb) but not greater than 13.6 kg (30 lb), or by children in a specified height range that includes any children whose height is greater than 650 mm but not greater than 850 mm.

The Q3s represents a 3-year-old and weighs 14.5 kg (32 lb). The standard specifies the Q3s for testing CRSs that are recommended by their manufacturer for use by children having a mass greater than 13.6 kg (30 lb) but not greater than 18 kg (40 lb), or by children whose height is greater than 870 mm but not greater than 1100 mm. FMVSS No. 213a uses the Q3s to evaluate the crash forces experienced by a restrained child and specifies injury criteria (expressed in terms of a head injury criterion (HIC) and chest deflection) that may not be exceeded. These criteria allow a quantitative evaluation of the effectiveness of the CRS to prevent or attenuate head and chest impact with the intruding door.

The weight and height ranges for selecting either the CRABI-12MO and the Q3s were specifically chosen to mirror the weight ranges specified for testing CRSs to the frontal impact requirements in FMVSS Nos. 213 and 213b for CRSs with manufacturer recommended weights between 5 kg (11 lb) and 18 kg (40 lb).²² Specifically, the frontal impact standards specify testing CRSs recommended for children weighing 5 kg (11 lb) to 13.6 kg (30 lb), and specify a different 3-year-old dummy (the HIII-3yo) for testing CRSs recommended for children weighing 13.6 kg (30 lb) to 18 kg (40 lb). NHTSA had a variety of reasons for choosing these cutoffs; one of them was consistency between the front and side impact requirements.²³

²² 87 FR 39234, 39290 (June 30, 2022) (side impact final rule) (“These weight categories were designed to be consistent with the criteria used in the current FMVSS No. 213 in determining the test dummies that are used to test child restraints to the standard's frontal test requirements.”).

²³ 88 FR 84514, 84516 (December 5, 2023) (frontal update final rule) (“This final rule makes the following changes to simplify and make more representative the agency's use of test dummies in compliance tests (S7) . . . The purpose of these amendments is to heighten the assessment of CRS performance in protecting a child occupant.”).

This proposal for FMVSS No. 213a concerns one aspect of these dummy specifications for which the specifications in FMVSS No. 213a do not mirror those in FMVSS Nos. 213 and 213b. In its comments to the frontal impact upgrade NPRM, Evenflo pointed out a potential inconsistency in the testing for which the CRABI-12MO was specified.²⁴ Evenflo noted that while FMVSS No. 213 requires that “manufacturers shall not recommend forward-facing use for child restraint systems with internal harnesses for children of masses less than 12 kg (26.5 lb)” ²⁵, the front impact proposal specified the CRABI-12MO (which weighs 10 kg (22 lb)) for testing CRSs recommended for use with children weighing more than 10 kg (22 lb) and not more than 13.6 kg (30 lb). Thus, it proposed using the CRABI-12MO to test CRSs that manufacturers would not have been permitted to recommend for forward-facing use for children weighing the same as the dummy.²⁶ In response to this comment, NHTSA added language to the finalized standard providing that “the CRABI 12MO dummy is not used to test a forward-facing child restraint system” in this weight/height range. The final rule preamble also noted that “this change has implications for the agency's use of the CRABI-12MO in FMVSS No. 213a (Side Impact Protection) compliance tests . . . NHTSA plans to issue an NPRM to propose a conforming amendment to FMVSS No. 213a that the CRABI-12MO would not be used forward-facing in the side impact test for CRSs labeled with a turnaround weight of 12 kg (26.5 lb).” ²⁷

²⁴ NHTSA did not receive any comments to the 2014 side impact NPRM raising this issue.

²⁵ FMVSS No. 213, S5.5.2.(f)(2); FMVSS No. 213, S5.5.2(f).

²⁶ It would be permissible for manufacturers to recommend a seat for forward-facing use for a subset of children weighing between 10 kg (22 lb) and 13.6 kg (30 lb)—namely, children weighing less than 12 kg (26.5)—but NHTSA has decided not to specify the CRABI-12MO for testing CRS designated for forward-facing use for such children in order to simplify the requirements.

²⁷ 88 FR 84514, 845551 (Dec. 5, 2023) (frontal impact upgrade final rule).

NHTSA is now proposing to amend the side impact standard to include this language providing that the CRABI-12MO dummy will not be used to test a forward-facing child restraint system recommended for use by children in a specified mass range that includes any children having a mass greater than 5 kg (11 lb) but not greater than 13.6 kg (30 lb), or by children in a specified height range that includes any children whose height is greater than 650 millimeters but not greater than 870 millimeters. NHTSA believes it would make sense for CRSs to be tested with the same test dummies in both the frontal impact and side impact tests to minimize burden on CRS manufacturers. NHTSA also believes that a requirement to test a CRS in a configuration that is not allowed is unnecessary and burdensome as CRS manufacturers might have to design their CRS models to accommodate a dummy representing a child that is not recommended for that specific CRS and/or CRS configuration.

The agency also proposes to delete paragraphs S9.1(c) and (d) in FMVSS No. 213a because those sections contain positioning information relating to testing forward-facing CRSs with a CRABI dummy which would no longer be relevant. NHTSA is also proposing to amend S9.1(b). Currently that section describes how to position the CRABI dummy in a “forward-facing” child restraint system. Instead, S9.1(b) should indicate how to position the CRABI dummy in CRSs used rear-facing with the same procedure that is used in FMVSS No. 213b, for consistency between the standards and for completeness of the dummy positioning procedure. NHTSA seeks comment on this proposal.

C. Delay the Compliance Date From June 30, 2025 to December 5, 2026

The petition for reconsideration from the group of CRS manufacturers ²⁸ requested a delay of the June 30, 2025, compliance date of the side impact standard to prevent “significant market disruption resulting from a reduced availability of child restraint systems and higher costs than necessary for those that are available.” The petitioners argued that the extension is needed because of “inconsistent results within individual labs and lab to lab variation,” and the limited “availability of compliance lab sled time” to develop their products to certify compliance with the new standard. The petitioners suggested that the agency consider moving the FMVSS No. 213a compliance date to December 5, 2026, to match the compliance date of FMVSS No. 213b.

²⁸ BabyTrend, Babyark, DECA Consulting, Diono, Doona, KidsEmbrace, Peg Perego, and Safe Traffic System.

The agency has tentatively decided that this petition has merit and is proposing to delay the compliance date of FMVSS No. 213a to December 5, 2026. The side impact standard is new and broadly applicable, meaning CRS manufacturers must certify most, if not all, of their products to a variety of new requirements. The agency understands this takes a significant amount of testing for both research, development, and certification purposes. Although the agency believes there are significant safety benefits associated with the side impact standard, manufacturers potentially having to stop manufacturing certain CRSs because they cannot comply with the side impact standard by June 30, 2025 would also create potential child safety issues due to reduced availability of CRSs for purchase. The agency believes that it would be prudent to give manufacturers more time to test and certify their applicable products to the side impact standard to ensure currently compliant CRSs remain available on the market. This proposal would still allow for the option of early compliance with the side impact standard.²⁹

²⁹ Manufacturers who certify their products to the side impact standard early may be subject to the agency's compliance testing.

A compliance date of December 5, 2026 would coincide with the compliance date for many of the requirements of the frontal impact update standard. The agency believes the extra 15 months should be sufficient time for manufacturers to complete testing of their products for compliance with the side impact standard. Additionally, we believe it would ease the burden on manufacturers to have the frontal impact update and side impact compliance dates align, as manufacturers would have one target date for certification. Accordingly, the agency proposes to delay the compliance date of FMVSS No. 213a to December 5, 2026. NHTSA seeks comment on this proposal.

IV. Proposed Amendments To Front Impact Requirements (FMVSS Nos. 213 and 213b)

As discussed above, the frontal impact update final rule added a definition of “school bus child restraint system.” NHTSA explained in the frontal impact update final rule that FMVSS No. 213 has special accommodations for harnesses manufactured exclusively for use on school bus seats. These accommodations meet the need that many school districts and school bus operators have for a product with a seat back mount to transport children who need help sitting upright and remaining safely in their seat. The seat back attachment hardware of these specialized school bus harnesses does not use a seat belt to attach to the bus seat. This attachment configuration permits use of these harnesses in the significant population of large school buses that are without seat belts.

While the agency made several modifications to FMVSS Nos. 213 and 213b to create a new CRS category (school bus CRSs) in the frontal impact update final rule, the agency did not exempt these CRSs from the requirements of S5.9(a). This section requires CRS to have components permanently attached to the CRS that enable the restraint to be fastened to a vehicle's child restraint anchorages. Paragraph S5.9(a) currently excludes car beds, harness, and belt positioning seat from having these attachments. The agency did not intend to require lower anchorage attachments for school bus CRSs as these types of CRSs are expected to have a seat back mount to install them on the school bus seat. In other words, school bus CRSs are generally not designed for installation in other types of motor vehicles, and the agency sees no reason to require school bus CRSs to meet requirements adopted to ensure certain CRSs can be installed in other types of motor vehicles. Additionally, under the new requirements for school bus CRSs in the frontal impact update standards, school bus CRSs must have a label explaining that the CRS is for use exclusively in school buses, meaning the agency thinks there is very little risk a consumer would try to install a school bus CRS in a motor vehicle. Accordingly, this NPRM proposes to exclude “school bus CRSs” from the S5.9(a) requirements in FMVSS Nos. 213 and 213b. The agency also proposes to amend S5.5.2(g)(1)(ii) in FMVSS Nos. 213 and 213b which require a labeling statement regarding how to secure the CRS to the vehicle. Because the requirement lists the “child restraint anchorage system” or “vehicle belt” as methods to attach the CRS to the vehicle, NHTSA proposes to add a requirement specific for school bus CRSs that would indicate the seat back mount in the statement as the method for attaching the CRS to the vehicle instead of the “child restraint anchorage system or vehicle belt” because those methods are not used when using school bus CRSs. NHTSA seeks comment on this proposal.

V. Costs and Benefits

Due to the change in compliance date, both benefits and costs, which are ultimately borne by consumers, associated with meeting the requirement of FMVSS No. 213a will be delayed. Additionally, there may be a cost savings associated with avoiding a market disruption as manufacturers have indicated to the agency that they may have to stop manufacturing certain CRSs that they cannot certify to the new FMVSS No. 213a requirements by June 30, 2025.³⁰ Delaying the compliance date would ensure CRS manufacturers can continue to manufacture currently compliant CRSs while they work to certify compliance with the new side impact requirements. NHTSA estimates that the cost savings to consumers resulting from a delay in the compliance date from June 30, 2025 to December 5, 2026 is about $10.58 million.

³⁰ The FMVSS No. 213a final regulatory impact analysis (FRIA) estimates an annual cost of $7.37 million to meet FMVSS No. 213a requirements. By delaying the compliance date from June 30, 2025 to December 5, 2026 would result in cost savings to society by $10.58 million. The full analysis on the compliance date delay cost savings will be docketed along with this NPRM.

There are no additional benefits expected from exempting school bus child restraint systems from side impact protection requirements and lower anchorages attachment requirements since these products have been in the market. Similar to the potential delay cost savings discussed above, exempting school bus CRSs from the side impact requirements may result in a cost savings for manufacturers, as it is likely that school bus CRS manufacturers would have to stop manufacturing school bus CRSs that cannot comply with FMVSS No. 213a by June 30, 2025. Exempting school bus CRSs from compliance with FMVSS No. 213a would ensure that school bus CRS manufacturers can continue to manufacture their products after June 30, 2025.

Removing the requirement to test CRSs in forward facing mode with the CRABI dummy for side impact protection, would have no benefits but would reduce yearly testing costs by $1,290,000.³¹

³¹ There are currently 48 convertible CRS models, 60 all-in-one CRS models and 21 combination CRS models. Each forward-facing convertible, combination and all-in-one CRS would no longer be tested using the CRABI-12MO in a forward-facing configuration. The cost of a side impact sled test is estimated at $5,000. Therefore, the temporary additional test cost is estimated to be $1,290,000 (129 CRS Models × $5000 × 2 test installation configurations with CRABI-12MO in forward-facing mode).

Finally, exempting school bus CRSs from compliance with the FMVSS Nos. 213 and 213b lower anchorage attachment requirements will likely result in a cost savings for manufacturers. If the agency does not adopt this amendment, school bus CRSs could comply with FMVSS Nos. 213 and 213b, but would have to be equipped with hardware that would allow the school bus CRSs to attach to the lower anchors in a motor vehicle other than a school bus. This would be unnecessary, as school bus CRSs are not designed for use in other types of motor vehicles. Additionally, FMVSS Nos. 213 and 213b have a requirement that school bus CRSs must be labeled and inform the consumer that school bus CRSs are only for use in school buses. Accordingly, the agency believes there would be some cost savings associated with exempting school bus CRSs from this unnecessary attachment requirement. Because the agency does not believe exempting school bus CRSs from this requirement would affect safety, there are no incremental benefits associated with this proposal.

Comments are requested on the above cost benefit analysis.

VI. Proposed Effective Date

This NPRM proposes that the amendments would become effective immediately on the date of publication of any final rule. The amendments would qualify for the exemption from the 30-day effective date delay required by 5 U.S.C. 553(d) because they recognize an exemption or relieve a restriction.³² They would also qualify for an exemption from 49 U.S.C. 30111(d) for the same reasons.³³

³² The proposed amendments to S5.5.2(g)(1)(ii) in FMVSS Nos. 213 and 213b would make changes to certain CRS labeling requirements. This provision currently requires that a school bus CRS label state, among other things, that the CRS should be secured with the vehicle's child restraint anchorage system, if available, or with a vehicle belt. However, as explained earlier in this document, a school bus CRS is secured to the vehicle using the CRS's seat back mount, not with the vehicle's CRS anchorage system or belt. The proposal would amend this provision to require that the label on a school bus CRS state “Secure this school bus child restraint using the child restraint's seat back mount.” Therefore, although this is a requirement, the amendments would facilitate compliance for school bus CRSs because the current requirements do not accurately reflect how those CRSs are actually secured to the vehicle.

³³ Id. (“The Secretary shall specify the effective date of a motor vehicle safety standard prescribed under this chapter in the order prescribing the standard. A standard may not become effective before the 180th day after the standard is prescribed or later than one year after it is prescribed. However, the Secretary may prescribe a different effective date after finding, for good cause shown, that a different effective date is in the public interest and publishing the reasons for the finding”)

As explained earlier, this NPRM would delay the compliance date for FMVSS No. 213a to December 5, 2026. The compliance date for the proposed changes to the labeling requirements in S5.5.2(g)(2)(ii) of FMVSS Nos. 213 and 213b would be the same as the effective date in order to allow CRS manufacturers to take advantage of the more accurate labeling information the amendments would facilitate. Because the remainder of the proposed amendments would exempt certain CRSs from certain requirements, a compliance date is not necessary for those amendments.

VII. Regulatory Notices and Analyses

Executive Order 12866, Executive Order 14192, and DOT Regulatory Policies and Procedures

NHTSA has considered the impact of this rule under Executive Order 12866 and Executive Order 14192. This NPRM is not considered to be significant, and NHTSA has considered the costs and benefits of the proposed rule under the principles of these executive orders. Please refer to Section V, Costs and Benefits, for this discussion. This NPRM, if finalized as proposed, is also expected to be an E.O. 14192 deregulatory action.

Regulatory Flexibility Act

Pursuant to the Regulatory Flexibility Act (5 U.S.C. 601 et seq., as amended by the Small Business Regulatory Enforcement Fairness Act (SBREFA) of 1996), whenever an agency is required to publish a notice of proposed rulemaking or final rule, it must prepare and make available for public comment a regulatory flexibility analysis that describes the effect of the rule on small entities (i.e., small businesses, small organizations and small governmental jurisdictions), unless the head of an agency certifies the rule will not have a significant economic impact on a substantial number of small entities. Agencies must also provide a statement of the factual basis for this certification.

I certify that this rulemaking action would not have a significant economic impact on a substantial number of small entities. NHTSA estimates there to be 38 manufacturers of child restraints, none of which are small businesses. There is no separate NAICS code for child restraints. Child restraints systems could fit into the “Motor Vehicle Seating and Interior Trim” Category (NAICS 336360), “All Other Motor Vehicle Parts Manufacturing” category (NAICS 336399), or in “All Other Transportation Equipment Manufacturing” category (NAICS 336999). The determination was made based on whether the manufacturer had 500 or more employees. All the manufacturers that were identified as small manufacturers already met the requirement and, therefore, the analysis concluded that there would be no impact on small businesses. Even if there were a small CRS manufacturer, as explained in the discussion of costs and benefits, the impacts of this rule will not be significant and the rule would likely result in cost savings to CRS manufacturers.

Federalism

NHTSA has examined this final rule pursuant to E.O. 13132 (64 FR 43255, August 10, 1999) and concluded that no additional consultation with States, local governments or their representatives is mandated beyond the rulemaking process. The agency has concluded that the rulemaking would not have sufficient federalism implications to warrant consultation with State and local officials or the preparation of a federalism summary impact statement. This final rule would not have “substantial direct effects on the States, on the relationship between the national government and the States, or on the distribution of power and responsibilities among the various levels of government.”

NHTSA rules can have preemptive effect in two ways. First, the National Traffic and Motor Vehicle Safety Act contains an express preemption provision stating that, if NHTSA has established a standard for an aspect of motor vehicle or motor vehicle equipment performance, a State may only prescribe or continue in effect a standard for that same aspect of performance if the State standard is identical to the Federal standard.³⁴ It is this statutory command by Congress that preempts any non-identical State legislative and administrative law addressing the same aspect of performance.

³⁴ 49 U.S.C. 30103(b)(1).

The express preemption provision described above is subject to a savings clause under which “[c]ompliance with a motor vehicle safety standard prescribed under this chapter does not exempt a person from liability at common law.” ³⁵ Pursuant to this provision, State common law tort causes of action against motor vehicle manufacturers that might otherwise be preempted by the express preemption provision are generally preserved.

³⁵ 49 U.S.C. 30103(e).

NHTSA rules can also preempt State law if complying with the FMVSS would render the motor vehicle manufacturers liable under State tort law. Because most NHTSA standards established by an FMVSS are minimum standards, a State common law tort cause of action that seeks to impose a higher standard on motor vehicle manufacturers will generally not be preempted. However, if and when such a conflict does exist—for example, when the standard at issue is both a minimum and a maximum standard—the State common law tort cause of action is impliedly preempted.³⁶

³⁶ See Geier v. American Honda Motor Co., 529 U.S. 861 (2000).

Pursuant to E.O. 13132, NHTSA has considered whether this final rule could or should preempt State common law causes of action. The agency's ability to announce its conclusion regarding the preemptive effect of one of its rules reduces the likelihood that preemption will be an issue in any subsequent tort litigation. To this end, the agency has examined the nature (e.g., the language and structure of the regulatory text) and objectives of this final rule and finds that this final rule, like many NHTSA rules, prescribes only a minimum safety standard. Accordingly, NHTSA does not intend that this final rule preempt state tort law that would effectively impose a higher standard on motor vehicle manufacturers than that established by this final rule. Establishment of a higher standard by means of State tort law would not conflict with the minimum standard finalized in this document. Without any conflict, there could not be any implied preemption of a State common law tort cause of action.

National Environmental Policy Act

NHTSA believes this proposed rule, if finalized, would not have a reasonably foreseeable significant effect on the quality of the human environment. The public is invited to comment on the impact of the proposed agency action.

Paperwork Reduction Act

Under the procedures established by the Paperwork Reduction Act of 1995 (PRA) (44 U.S.C. 3501, et. seq.), a Federal agency must request and receive approval from the Office of Management and Budget (OMB) before it collects certain information from the public and a person is not required to respond to a collection of information by a Federal agency unless the collection displays a valid OMB control number. This proposed rule would not have any requirements that are considered to be information collection requirements as defined by the OMB in 5 CFR part 1320.

Unfunded Mandates Reform Act (UMRA)

The Unfunded Mandates Reform Act of 1995 (UMRA) requires Federal agencies to prepare a written assessment of the costs, benefits and other effects of proposed or final rules that include a Federal mandate likely to result in the expenditure by State, local or tribal governments, in the aggregate, or by the private sector, of more than $100 million annually (adjusted annually for inflation, with base year of 1995). UMRA also requires an agency issuing an NPRM or final rule subject to the Act to select the “least costly, most cost-effective or least burdensome alternative that achieves the objectives of the rule.” This final rule would not result in a Federal mandate that will likely result in the expenditure by State, local or tribal governments, in the aggregate, or by the private sector, of more than $100 million annually (adjusted annually for inflation, with base year of 1995).

Executive Order 12778 (Civil Justice Reform)

When promulgating a regulation, agencies are required under Executive Order 12988 to make every reasonable effort to ensure that the regulation, as appropriate: (1) specifies in clear language the preemptive effect; (2) specifies in clear language the effect on existing Federal law or regulation, including all provisions repealed, circumscribed, displaced, impaired, or modified; (3) provides a clear legal standard for affected conduct rather than a general standard, while promoting simplification and burden reduction; (4) specifies in clear language the retroactive effect; (5) specifies whether administrative proceedings are to be required before parties may file suit in court; (6) explicitly or implicitly defines key terms; and (7) addresses other important issues affecting clarity and general draftsmanship of regulations.

Pursuant to this Order, NHTSA notes that the preemptive effect of this final rule is discussed above. NHTSA notes further that there is no requirement that an individual submit a petition for reconsideration or pursue other administrative proceedings before they may file suit in court.

National Technology Transfer and Advancement Act

Under the National Technology Transfer and Advancement Act of 1995 (NTTAA) (Public Law 104-113), “all Federal agencies and departments shall use technical standards that are developed or adopted by voluntary consensus standards bodies, using such technical standards as a means to carry out policy objectives or activities determined by the agencies and departments.” Voluntary consensus standards are technical standards (e.g., materials specifications, test methods, sampling procedures and business practices) that are developed or adopted by voluntary consensus standards bodies, such as the International Organization for Standardization (ISO) and the Society of Automotive Engineers (SAE). The NTTAA directs this agency to provide Congress, through OMB, explanations when we decide not to use available and applicable voluntary consensus standards. There are no voluntary consensus standards developed by voluntary consensus standards bodies pertaining to this final rule.

Plain Language Requirement

Executive Order 12866 requires each agency to write all rules in plain language. Application of the principles of plain language includes consideration of the following questions:

• Have we organized the material to suit the public's needs?

• Are the requirements in the rule clearly stated?

• Does the rule contain technical language or jargon that isn't clear?

• Would a different format (grouping and order of sections, use of headings, paragraphing) make the rule easier to understand?

• Would more (but shorter) sections be better?

• Could we improve clarity by adding tables, lists, or diagrams?

• What else could we do to make the rule easier to understand?

NHTSA has considered these questions and attempted to use plain language in promulgating this final rule. Please inform the agency if you can suggest how NHTSA can improve its use of plain language.

Regulatory Identifier Number (RIN)

The Department of Transportation assigns a regulation identifier number (RIN) to each regulatory action listed in the Unified Agenda of Federal Regulations. The Regulatory Information Service Center publishes the Unified Agenda in April and October of each year. The RIN contained in the heading at the beginning of this document may be used to find this action in the Unified Agenda.

Privacy Act

In accordance with 5 U.S.C. 553(c), DOT solicits comments from the public to better inform its rulemaking process. DOT posts these comments, without edit, to www.regulations.gov, as described in the system of records notice, DOT/ALL-14 FDMS, accessible through www.dot.gov/privacy. In order to facilitate comment tracking and response, we encourage commenters to provide their name, or the name of their organization; however, submission of names is completely optional. Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78).

Rule Summary

As required by 5 U.S.C. 553(b)(4), a summary of this rule can be found at regulations.gov, Docket No. NHTSA-2025-0046, in the SUMMARY section of this proposed rule.

Incorporation by Reference

The following materials appear in the proposed amendatory text of this document and have already been approved for the locations in which they appear:

• Drawing Package SAS-100-1000, Standard Seat Belt Assembly with Addendum A, Seat Base Weldment;

• Drawing Package, “NHTSA Standard Seat Assembly; FMVSS No. 213, No. NHTSA-213-2003”; and

• NHTSA Standard Seat Assembly; FMVSS No. 213, No. NHTSA-213-2021, Parts List and Drawings, NHTSA Standard Seat Assembly; FMVSS No. 213, No. NHTSA-213-2021, Child Frontal Impact Sled, March 2023.

No changes are proposed to the IBR material.

VIII. Public Participation

Your comments must be written and in English. To ensure that your comments are correctly filed in the Docket, please include the agency name and the docket number or Regulatory Identification Number (RIN) in your comments. Your comments must not be more than 15 pages long. (49 CFR 553.21). We established this limit to encourage you to write your primary comments in a concise fashion. However, you may attach necessary additional documents to your comments. There is no limit on the length of the attachments. If you are submitting comments electronically as a PDF (Adobe) file, NHTSA asks that the documents be submitted using the Optical Character Recognition (OCR) process, thus allowing NHTSA to search and copy certain portions of your submissions. Please note that pursuant to the Data Quality Act, in order for substantive data to be relied upon and used by the agency, it must meet the information quality standards set forth in the OMB and DOT Data Quality Act guidelines. Accordingly, we encourage you to consult the guidelines in preparing your comments. OMB's guidelines may be accessed at https://www.transportation.gov/regulations/dot-information-dissemination-quality-guidelines.

How can I be sure that my comments were received?

If you wish the Docket to notify you upon its receipt of your comments, enclose a self-addressed, stamped postcard in the envelope containing your comments. Upon receiving your comments, the Docket will return the postcard by mail.

How do I submit confidential business information?

You should submit a redacted “public version” of your comment (including redacted versions of any additional documents or attachments) to the docket using any of the methods identified under ADDRESSES. This “public version” of your comment should contain only the portions for which no claim of confidential treatment is made and from which those portions for which confidential treatment is claimed has been redacted. See below for further instructions on how to do this.

You also need to submit a request for confidential treatment directly to the Office of Chief Counsel. Requests for confidential treatment are governed by 49 CFR part 512. Your request must set forth the information specified in Part 512. This includes the materials for which confidentiality is being requested (as explained in more detail below); supporting information, pursuant to Part 512.8; and a certificate, pursuant to Part 512.4(b) and Part 512, Appendix A.

You are required to submit to the Office of Chief Counsel one unredacted “confidential version” of the information for which you are seeking confidential treatment. Pursuant to Part 512.6, the words “ENTIRE PAGE CONFIDENTIAL BUSINESS INFORMATION” or “CONFIDENTIAL BUSINESS INFORMATION CONTAINED WITHIN BRACKETS” (as applicable) must appear at the top of each page containing information claimed to be confidential. In the latter situation, where not all information on the page is claimed to be confidential, identify each item of information for which confidentiality is requested within brackets: “[ ].” You are also required to submit to the Office of Chief Counsel one redacted “public version” of the information for which you are seeking confidential treatment. Pursuant to Part 512.5(a)(2), the redacted “public version” should include redactions of any information for which you are seeking confidential treatment (i.e., the only information that should be unredacted is information for which you are not seeking confidential treatment). NHTSA is currently treating electronic submission as an acceptable method for submitting confidential business information to the agency under Part 512. Please do not send a hardcopy of a request for confidential treatment to NHTSA's headquarters. The request should be sent to Dan Rabinovitz in the Office of the Chief Counsel at Daniel.Rabinovitz@dot.gov. You may either submit your request via email or request a secure file transfer link. If you are submitting the request via email, please also email a courtesy copy of the request to John Piazza at John.Piazza@dot.gov.

Will the agency consider late comments?

We will consider all comments received before the close of business on the comment closing date indicated above under DATES. To the extent possible, we will also consider comments that the docket receives after that date. If the docket receives a comment too late for us to consider in developing a final rule (assuming that one is issued), we will consider that comment as an informal suggestion for future rulemaking action.

How can I read the comments submitted by other people?

You may read the comments received by the docket at the address given above under ADDRESSES. The hours of the docket are indicated above in the same location. You may also see the comments on the internet. To read the comments on the internet, go to http://www.regulations.gov. Follow the online instructions for accessing the dockets.

Please note that even after the comment closing date, we will continue to file relevant information in the docket as it becomes available. Further, some people may submit late comments. Accordingly, we recommend that you periodically check the Docket for new material. You can arrange with the docket to be notified when others file comments in the docket. See www.regulations.gov for more information.

Proposed Regulatory Text

List of Subjects in 49 CFR Part 571

Motor vehicle safety, Motor vehicles, Incorporation by reference.

In consideration of the foregoing, NHTSA proposes to amend 49 CFR part 571 as follows:

PART 571—FEDERAL MOTOR VEHICLE SAFETY STANDARDS

Subpart B—Federal Motor Vehicle Safety Standards

1. The authority citation for part 571 continues to read as follows:

Authority: 49 U.S.C. 322, 30111, 30115, 30117 and 30166; delegation of authority at 49 CFR 1.95.

2. Amend § 571.213 by revising paragraphs S5(g), S5.5.2(g)(1)(ii), and S5.9(a) to read as follows:

§ 571.213 Child restraint systems; Applicable unless a vehicle or child restraint system is certified to § 571.213b.

* * * * *

S5 Requirements.

* * * * *

(g) Each add-on child restraint system manufactured for use in motor vehicles, that is recommended for children in a weight range that includes weights up to 18 kilograms (40 pounds), or for children in a height range that includes heights up to 1100 millimeters, shall meet the requirements in this standard and the additional side impact protection requirements in Standard No. 213a (§ 571.213a). Excepted from Standard No. 213a are harnesses, school bus child restraint systems, and car beds.

* * * * *

S5.5.2 * * *

(g) * * *

(1) * * *

(ii) Secure this child restraint with the vehicle's child restraint anchorage system, if available, or with a vehicle belt. [For car beds, harnesses, and belt positioning seats, the first part of the statement regarding attachment by the child restraint anchorage system is optional.] [For belt-positioning seats, the second part of the statement regarding attachment by the vehicle belt does not apply.] [For school bus child restraint systems, the statement above in this section does not apply. School bus child restraint systems must use the following statement instead: Secure this school bus child restraint using the child restraint's seat back mount.]

* * * * *

S5.9 * * *

(a) Each add-on child restraint system other than a car bed, harness, school bus child restraint system, and belt-positioning seat, shall have components permanently attached to the system that enable the restraint to be securely fastened to the lower anchorages of the child restraint anchorage system specified in Standard No. 225 (§ 571.225) and depicted in Drawing Package SAS-100-1000, Standard Seat Belt Assembly with Addendum A, Seat Base Weldment or in Drawing Package, “NHTSA Standard Seat Assembly; FMVSS No. 213, No. NHTSA-213-2003” (both incorporated by reference, see § 571.5). The components must be attached by use of a tool, such as a screwdriver. In the case of rear-facing child restraints with detachable bases, only the base is required to have the components.

* * * * *

3. Amend § 571.213a by:

a. Revising the section heading and paragraph S3;

b. Adding to S4, in alphabetical order, a definition for “school bus child restraint system”;

c. Revising paragraphs S7.1(a) and S9.1(b); and

d. Removing paragraphs S9.1(c) and S9.1(d).

The additions, revisions, and deletions read as follows:

§ 571.213a; Child restraint systems—Side Impact Protection—Mandatory applicability beginning December 5, 2026.

* * * * *

S3 Application. This standard applies to add-on child restraint systems that are either recommended for use by children in a weight range that includes weights up to 18 kilograms (40 pounds) regardless of height, or by children in a height range that includes heights up to 1100 millimeters regardless of weight, except for car beds, school bus child restraint systems, and harnesses.

S4 * * *

* * * * *

School bus child restraint system means an add-on child restraint system (including a harness) manufactured and sold only for use on school bus seats that has a label conforming with S5.3.1(b) of FMVSS No. 213b (§ 571.213b).

* * * * *

S7 * * *

S7.1 * * *

(a) A child restraint that is recommended by its manufacturer in accordance with S5.5 of Standard No. 213 (§ 571.213) for use either by children in a specified mass range that includes any children having a mass greater than 5 kilograms but not greater than 13.6 kilograms, or by children in a specified height range that includes any children whose height is greater than 650 millimeters but not greater than 870 millimeters, is tested with a CRABI 12-month-old test dummy conforming to 49 CFR part 572 subpart R, provided, however, that the CRABI 12-month-old dummy is not used to test a forward-facing child restraint system.

* * * * *

S9.1 * * *

(a) * * *

(b) When testing child restraint systems rear-facing, extend the dummy's arms vertically upwards and then rotate each arm downward toward the dummy's lower body until the arm contacts a surface of the child restraint system or the SISA. Ensure that no arm is restrained from movement in other than the downward direction, by any part of the system or the belts used to anchor the system to the SISA sliding seat.

* * * * *

4. Amend § 571.213b by revising S5(b)(2), S5.5.2(g)(1)(ii), and S5.9(a) to read as follows:

§ 571.213b Standard No. 213b; Child restraint systems; Mandatory applicability beginning December 5, 2026.

* * * * *

S5 * * *

(b) * * *

(2) Each add-on child restraint system manufactured for use in motor vehicles, that is recommended for children in a weight range that includes weights less than 18 kilograms (40 pounds) regardless of height, or for children in a height range that includes heights less than 1100 millimeters (mm) regardless of weight, shall meet the requirements in this standard and the applicable side impact protection requirements in Standard No. 213a (§ 571.213a). Excepted from Standard No. 213a are harnesses, school bus child restraint systems, and car beds.

* * * * *

S5.5.2 * * *

(g) * * *

(1) * * *

(ii) Secure this child restraint with the vehicle's child restraint anchorage system, if available, or with a vehicle belt. [For car beds, harnesses, and belt positioning seats, the first part of the statement regarding attachment by the child restraint anchorage system is optional.] [For belt-positioning seats, the second part of the statement regarding attachment by the vehicle belt does not apply.] For school bus child restraint systems, the statement above in this section does not apply. School bus child restraint systems must use the following statement instead: Secure this school bus child restraint using the child restraint system's seat back mount.

* * * * *

S5.9 * * *

(a) Each add-on child restraint system other than a car bed, harness, school bus child restraint system, and belt-positioning seat, shall have components permanently attached to the system that enable the restraint to be securely fastened to the lower anchorages of the child restraint anchorage system specified in Standard No. 225 (§ 571.225) and depicted in NHTSA Standard Seat Assembly; FMVSS No. 213, No. NHTSA-213-2021, Parts List and Drawings, NHTSA Standard Seat Assembly; FMVSS No. 213, No. NHTSA-213-2021, Child Frontal Impact Sled, March 2023 (incorporated by reference, see § 571.5). The components must be attached by use of a tool, such as a screwdriver. In the case of rear-facing child restraint systems with detachable bases, only the base is required to have the components.

* * * * *

Issued under authority delegated in 49 CFR 1.95, 501.4, and 501.5.
Peter Simshauser,
Chief Counsel.

[FR Doc. 2025-09750 Filed 5-27-25; 4:15 pm]

BILLING CODE 4910-59-P